DEPARTMENT OF HEALTH AND HUMAN SERVICES

National Institutes of Health

Proposed Collection; 60-day Comment Request: National Institutes of Health Loan Repayment Programs

SUMMARY: In compliance with the requirement of Section 3506(c)(2)(A) of the Paperwork Reduction Act of 1995, for opportunity for public comment on proposed data collection projects, the Division of Loan Repayment, National Institutes of Health (NIH), will publish periodic summaries of proposed projects to be submitted to the Office of Management and Budget (OMB) for review and approval.

Written comments and/or suggestions from the public and affected agencies should address one or more of the following points: (1) Whether the proposed collection of information is necessary for the proper performance of the function of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology.

To Submit Comments and For Further Information: To request more information on the proposed project or to obtain a copy of the data collection plans and instruments, contact: Steve Boehlert, Director of Operations, Division of Loan Repayment, National Institutes of Health, 6011 Executive Blvd., Room 206 (MSC 7650), Bethesda, Maryland 20892-7650. Steve may be contacted via email at BoehlerS@od.nih.gov or by calling 301-451-4465. Formal requests for additional plans and instruments must be requested in writing.

Comment Due Date: Comments regarding this information collection are best assured of having their full effect if received within 60 days of the date of this publication.

Proposed Collection: National Institutes of Health Loan Repayment Programs.

Type of Information Collection Request: Extension of a currently approved collection (OMB No. 0925-0361, expiration date 06/30/14).

Form Numbers: NIH 2674-1, NIH 2674-2, NIH 2674-3, NIH 2674-4, NIH 2674-5, NIH 2674-6, NIH 2674-7, NIH 2674-8, NIH 2674-9, NIH 2674-10, NIH 2674-11, NIH 2674-12, NIH 2674-13, NIH 2674-14, NIH 2674-15, NIH 2674-16, NIH 2674-17, NIH 2674-18, and NIH 2674-19.

Need and Use of Information Collection: The NIH makes available financial assistance, in the form of educational loan repayment, to M.D., Ph.D., Pharm.D., D.D.S., D.M.D., D.V.M., D.P.M., DC, and N.D. degree holders, or the equivalent, who perform biomedical or behavioral research in NIH intramural laboratories or as extramural grantees or scientists funded by domestic non-profit organizations for a minimum of 2 years (3 years for the General Research LRP) in research areas supporting the mission and priorities of the NIH.

The AIDS Research Loan Repayment Program (AIDS-LRP) is authorized by Section 487A of the Public Health Service Act (42 U.S.C. 288-1); the Clinical Research Loan Repayment Program for Individuals from Disadvantaged Backgrounds (CR-LRP) is authorized by Section 487E (42 U.S.C. 288-5); the General Research Loan Repayment Program (GR-LRP) is authorized by Section 487C of the Public Health Service Act (42 U.S.C. 288-3); the Clinical Research Loan Repayment Program (LRP-CR) is authorized by Section 487F (42 U.S.C. 288-5a); the Pediatric Research Loan Repayment Program (PR-LRP) is authorized by Section 487F (42 U.S.C. 288-6); the Extramural Clinical Research LRP for Individuals from Disadvantaged Backgrounds (ECR-LRP) is authorized by an amendment to Section 487E (42 U.S.C. 288-5); the Contraception and Infertility Research LRP (CIR-LRP) is authorized by Section 487B (42 U.S.C. 288-2); and the Health Disparities Research Loan Repayment Program (HD-LRP) is authorized by Section 485G (42 U.S.C. 287c-33).

The Loan Repayment Programs can repay up to $35,000 per year toward a participant's extant eligible educational loans, directly to financial institutions. The information proposed for collection will be used by the Division of Loan Repayment to determine an applicant's eligibility for participation in the program.

Frequency of Response: Initial application and one or two-year renewal application.

Affected Public: Individuals or households; Nonprofits; and Businesses or other for-profit.

Type of Respondents: Physicians, other scientific or medical personnel, and institutional representatives.

OMB approval is requested for 3 years. There are no costs to respondents other than their time. The total estimated annualized burden hours are 34,925.

Estimated Annualized Burden Hours
Type of respondent | Number of respondents | Estimated number of responses per respondent | Average burden hours per response | Annual burden hours requested
Intramural LRPs
Initial Applicants | 20 | 1 | 10 | 200
Advisors/Supervisors | 20 | 1 | 1 | 20
Recommenders | 60 | 1 | 30/60 | 30
Subtotal | 100 |  |  | 250
Extramural LRPs
Initial Applicants | 1,800 | 1 | 11 | 19,800
Advisors/Supervisors | 1,600 | 1 | 1 | 1,600
Recommenders | 5,400 | 1 | 30/60 | 2,700
Subtotal | 8,800 |  |  | 24,100
Intramural LRPs
Renewal Applicants | 40 | 1 | 7 | 280
Advisors/Supervisors | 40 | 1 | 2 | 80
Subtotal | 80 |  |  | 360
Extramural LRPS
Renewal Applicants | 930 | 1 | 8 | 7,440
Advisors/Supervisors | 690 | 1 | 2 | 1,380
Recommenders | 2,790 | 1 | 30/60 | 1,395
Subtotal | 4,410 |  |  | 10,215

Dated: January 27, 2014.
Adrienne Boice,
Project Clearance Liaison, Division of Loan Repayment, NIH.

[FR Doc. 2014-02018 Filed 1-30-14; 8:45 am]

BILLING CODE 4140-01-P